DEPARTMENT OF TRANSPORTATION

Office of the Secretary

[Docket No. DOT-OST-2016-0095]

Senior Executive Service Performance Review Boards Membership

AGENCY: Office of the Secretary, Department of Transportation (DOT).

ACTION: Notice of Performance Review Board (PRB) appointments.

SUMMARY: DOT publishes the names of the persons selected to serve on Departmental PRBs as required by 5 U.S.C. 4314(c)(4).

FOR FURTHER INFORMATION CONTACT: Karen Filipponi, Deputy Director, Departmental Office of Human Resource Management, (202) 366-4088.

SUPPLEMENTARY INFORMATION: The persons named below may be selected to serve on one or more Departmental PRBs.

Issued in Washington, DC, on June 6, 2016.
Keith Washington,
Deputy Assistant Secretary for Administration.

Department of Transportation

Federal Highway Administration

Alicandri, Elizabeth

Alonzi, Achille

Arnold, Robert

Audet, Anne

Ayele, Moges

Bezio, Brian

Brown, Janice

Christian, James

Echikson, Thomas

Elston, Debra

Evans, Monique

Everett, Thomas

Finfrock, Arlan

Fleury, Nicolle

Furst, Anthony

Griffith, Michael

Hartmann, Joseph

Hughes Rayman, Caitlin

Kalla, Hari

Kehrli, Mark

Kim, David

Knopp, Martin

Leonard, Kenneth

Lindley, Jeffrey

Lucero, Amy

Mammano, Vincent

Marchese, April

Osborn, Peter

Otto, Sandra

Petty, Kenneth

Pridemore, Virgil

Ridenour, Melisa

Rohlf, John

Saunders, Ian

Schaftlein, Shari

Schmidt, Robert

Shepherd, Gloria

Shores, Sarah

Solomon, Gerald

Stephanos, Peter

Suarez, Ricardo

Trentacoste, Michael

Turner, Derrell

Waidelich, Walter

Walker, Cheryl

Winter, David

Federal Motor Carrier Administration

Collins, Anne

Delorenzo, Joseph

Fromm, Charles

Horan, Charles

Jefferson, Daphne

Keane, Thomas

Kuo, John

Miller, Robert

Minor, Larry

Paden, William

Quade, William

Reed, Pamela

Regal, Geraldine

Riddle, Kenneth

Smith, Steven

Thomas, Curtis

Van Steenburg, John

Federal Railroad Administration

Arseneau, Bernard

Hartong, Mark

Hill, Corey

Inderbitzin, Sarah

Lauby, Robert

Lestingi, Michael

Nissenbaum, Paul

Pennington, Rebecca

Rennert, Jamie

Riggs, Tamela

Tunna, John

Warren, Patrick

Federal Transit Administration

Ahmad, Mokhtee

Biehl, Scott

Buchanan-Smith, Henrika

Crouch, Matthew

Flowers, Carolyn

Garcia Crews, Theresa

Garliauskas, Lucy

Gehrke, Linda

Littleton, Thomas

Mello, Mary

Nifosi, Dana

Partridge, Ellen

Patrick, Rober

Simon, Marisol

Taylor, Yvette

Tuccillo, Robert

Valdes, Vincent

Welbes, Matthew

Maritime Administration

Bohnert, Roger

Brand, Lauren

Brohl, Helen

Cahill, William

Davis, Delia

Doherty, Owen

Dunlap, Susan

Helis, James

Kumar, Shashi

Mc Mahon, Christopher

Moschkin, Lydia

Pixa, Rand

Quinn, John

Szabat, Joe

Tokarski, Kevin

National Highway Traffic Safety Administration

Beuse, Nathaniel

Blackman, Anita

Blincoe, Lawrence

Borris, Frank

Brown, Michael

Coggins, Colleen

Donaldson, K. John

Giuseppe, Jeffrey

Gunnels, Mary

Hemmersbaugh, Paul

Hines, David

Johnson, Tim

Marshall, John

Mclaughlin, Susan

Michael, Jeffrey

Posten, Raymond

Shelton, Terry

Sprague, Mary

Wood, Stephen

Office of the Secretary

Abraham, Julie

Amerling, Kristin

Augustine, John

Aylward, Anne

Baldwin, Kristen

Carlson, Terence

Chang, William

Farley, Audrey

Filipponi, Karen

Fleming, Gregg

Geier, Paul

Herlihy, Thomas

Homan, Tod

Horn, Donald

Hu, Patricia

Hurdle, Lana

Ishihara, David

Jackson, Ronald

Kaleta, Judith

Lawrence, Christine

Lefevre, Maria

Lowder, Michael

Martin, Harold

Mccann, Barbara

Mcdermott, Susan

Medina, Yvonne

Moss, Jonathan

Orndorff, Andrew

Paiewonsky, Luisa

Petrosinowoolverton, Marie

Popkin, Stephen

Roat, Maria

Schmitt, Rolf

Smith, Willie

Washington, Keith

Widawski, Louis

Womack, Kevin

Workie, Blane

Ziff, Laura

Pipeline and Hazardous Materials Safety Administration

Daugherty, Linda

Domotor, Stephen

El-Sibaie, Magdy

Mayberry, Alan

Schoonover, William

Summitt, Monica

Tsaganos, Vasiliki

Saint Lawrence Seaway Development Corporation

Lavigne, Thomas

Middlebrook, Craig

[FR Doc. 2016-13870 Filed 6-10-16; 8:45 am]

BILLING CODE 4910-9X-P